NUCLEAR REGULATORY COMMISSION

[NRC-2014-0001]

Sunshine Act Meeting

DATE: Weeks of August 25, September 1, 8, 15, 22, 29, 2014.

PLACE: Commissioners' Conference Room, 11555 Rockville Pike, Rockville, Maryland.

STATUS: Public and Closed.

Week of August 25, 2014

Tuesday, August 26, 2014

10:00 a.m. Affirmation Session (Public Meeting) (Tentative)

a. Final Rule: Continued Storage of Spent Nuclear Fuel (RIN 3150-AJ20) (Tentative)

b. Direct Final Rule: Safeguards Information—Modified Handling Categorization Change for Materials Facilities (RIN 3150-AJ18) (Tentative)

c. Continued Storage of Spent Nuclear Fuel—Memorandum and Order Addressing Suspension of Final Licensing Decisions and Pending Contentions (Tentative)

d. Direct Final Rule: Adding Shine Medical Technologies, Inc.'s Accelerator-Driven Subcritical Operating Assembly to the Definition of Utilization Facility (Tentative)

This meeting will be webcast live at the Web address— http://www.nrc.gov/.

Week of September 1, 2014—Tentative

There are no meetings scheduled for the week of September 1, 2014.

Week of September 8, 2014—Tentative

Tuesday, September 9, 2014

9:30 a.m. Briefing on NRC International Activities (Closed—Ex. 1 & 9)

Wednesday, September 10, 2014

9:30 a.m. Strategic Programmatic Overview of the New Reactors Business Line (Public Meeting) (Contact: Donna Williams, 301-415-1322)

This meeting will be webcast live at the Web address— http://www.nrc.gov/.

Week of September 15, 2014—Tentative

Monday, September 15, 2014

1:30 p.m. NRC All Employees Meeting (Public Meeting), Marriott Bethesda North Hotel, 5701 Marinelli Road, Rockville, MD 20852

Tuesday, September 16, 2014

10:30 a.m. Discussion of Management and Personnel Issues (Closed—Ex. 2 and 6)

2:00 p.m. Briefing on Project Aim 2020 (Closed—Ex. 2)

Thursday, September 18, 2014

9:00 a.m. Briefing on Management of Low-Level Waste, High-Level Waste, and Spent Nuclear Fuel (Public Meeting) (Contact: Cinthya I. Román, 301-287-9091)

This meeting will be webcast live at the Web address— http://www.nrc.gov/.

Week of September 22, 2014—Tentative

There are no meetings scheduled for the week of September 22, 2014.

Week of September 29, 2014—Tentative

Thursday, October 2, 2014

10:00 a.m. Meeting with the Advisory Committee on Reactor Safeguards (ACRS) (Public Meeting) (Contact: Ed Hackett, 301-415-7360)

* * * * *

The schedule for Commission meetings is subject to change on short notice. For more information or to verify the status of meetings, contact Rochelle Bavol at (301) 415-1651 or via email at Rochelle.Bavol@nrc.gov.

* * * * *

ADDITIONAL INFORMATION

By a vote of 4-0 on August 21, 2014, the Commission determined pursuant to U.S.C. 552b(e) and § 9.107(a) of the Commission's rules that item d in the above referenced Affirmation Session on August 26, 2014, be affirmed with less than one week notice to the public.

The start time for the Briefing on Project Aim 2020 (Closed—Ex. 2) on September 16, 2014, was changed from 9:30 a.m. to 2:00 p.m.

The start time for the Briefing on Management of Low-Level Waste, High-Level Waste, and Spent Nuclear Fuel (Public Meeting) on September 18, 2014, was corrected from 9:30 a.m. to 9:00 a.m.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov. Determinations on requests for reasonable accommodation will be made on a case-by-case basis.

* * * * *

Members of the public may request to receive this information electronically. If you would like to be added to the distribution, please contact the Office of the Secretary, Washington, DC 20555 (301-415-1969), or send an email to Patricia.Jimenez@nrc.gov or Brenda.Akstulewicz@nrc.gov.

Dated: August 21, 2014.
Rochelle C. Bavol,
Policy Coordinator, Office of the Secretary.

[FR Doc. 2014-20296 Filed 8-22-14; 11:15 am]

BILLING CODE 7590-01-P